DEPARTMENT OF HOMELAND SECURITY

Coast Guard

33 CFR Part 117

[CGD05-05-108]

Drawbridge Operation Regulations; New Jersey Intracoastal Waterway, Inside Thorofare, Ventnor City, NJ

AGENCY: Coast Guard, DHS.

ACTION: Notice of temporary deviation from regulations.

SUMMARY: The Commander, Fifth Coast Guard District, has approved a temporary deviation from the regulations governing the operation of the Dorset Avenue Bridge, at New Jersey Intracoastal Waterway (ICW) mile 72.1, across the Inside Thorofare at Ventnor City, New Jersey. To facilitate removal and replacement of deck lift spans, the temporary deviation would allow partial openings of the drawbridge.

DATES: This deviation is effective from 7 a.m. on October 3, 2005, to 11 p.m. on October 21, 2005.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6422. Commander (obr), Fifth Coast Guard District maintains the public docket for this temporary deviation.

FOR FURTHER INFORMATION CONTACT: Gary Heyer, Bridge Management Specialist, Fifth Coast Guard District, at (757) 398-6629.

SUPPLEMENTARY INFORMATION: The Dorset Avenue Bridge has a vertical clearance in the closed position of 9 feet at mean high water and 12 feet at mean low water.

A.P. Construction, Inc. on behalf of Atlantic County, which owns and operates this double-leaf bascule drawbridge, has requested a temporary deviation from the current operating regulations set out in 33 CFR 117.733(h) to facilitate deck repairs.

During this temporary deviation, deck repairs will require immobilizing half of the draw span. From 7 a.m. to 11 p.m. beginning on October 3, 2005 until and including October 21, 2005, single leaf openings will be provided on signal. Only double leaf openings will be provided from 11 p.m. to 7 a.m. Full openings will be provided at any time when at least two hours advance notice is given to the bridge tender at (609) 822-1805 or via marine radio on channel 13 VHF. At all other times, the draw shall open on signal.

In accordance with 33 CFR 117.35(c), this work will be performed with all due speed in order to return the bridge to normal operation as soon as possible. This deviation from the operating regulations is authorized under 33 CFR 117.35.

Dated: August 23, 2005.
Waverly W. Gregory, Jr.,
Chief, Bridge Administration Branch Fifth Coast Guard District.

[FR Doc. 05-17715 Filed 9-6-05; 8:45 am]

BILLING CODE 4910-15-P